DEPARTMENT OF TRANSPORTATION

Federal Aviation Administration

14 CFR Part 39

[Docket No. FAA-2005-22527; Directorate Identifier 2004-NM-04-AD]

RIN 2120-AA64

Airworthiness Directives; Airbus Model A300 B2 Series Airplanes; A300 B4-103 and B4-203 Airplanes; and A310-203 Airplanes

AGENCY: Federal Aviation Administration (FAA), Department of Transportation (DOT).

ACTION: Notice of proposed rulemaking (NPRM).

SUMMARY: The FAA proposes to adopt a new airworthiness directive (AD) for certain Airbus Model A300 B2 series airplanes, A300 B4-103 and B4-203 airplanes, and Model A310-203 airplanes. This proposed AD would require a one-time inspection for missing or incorrect rivets in the entire structural area affected by conversion from passenger to freight configuration, and corrective action if necessary. This proposed AD is prompted by a report of rivets missing from the passenger-to-freight converted area. We are proposing this AD to prevent structural failure of the main deck and main deck cargo door areas.

DATES: We must receive comments on this proposed AD by October 27, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact EADS Airbus G.M.B.H., Postfach 95 01 09, 21111 Hamburg, Germany.

You can examine the contents of this AD docket on the Internet at http://dms.dot.gov, or in person at the Docket Management Facility, U.S. Department of Transportation, 400 Seventh Street SW., room PL-401, on the plaza level of the Nassif Building, Washington, DC. This docket number is FAA-2005-22527; the directorate identifier for this docket is 2004-NM-04-AD.

FOR FURTHER INFORMATION CONTACT: David Lawson, Aerospace Engineer, Airframe and Propulsion Branch, ANE-171, FAA, New York Aircraft Certification Office, 1600 Stewart Avenue, suite 410, Westbury, New York 11590; telephone (516) 228-7327; fax (516) 794-5531.

SUPPLEMENTARY INFORMATION:

Comments Invited

We invite you to submit any relevant written data, views, or arguments regarding this proposed AD. Send your comments to an address listed under ADDRESSES. Include “Docket No. FAA-2005-22527; Directorate Identifier 2004-NM-04-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Luftfahrt-Bundesamt (LBA), which is the airworthiness authority for Germany, notified us that an unsafe condition may exist on certain Airbus Model A300 B2 series airplanes, A300 B4-103 and B4-203 airplanes, and A310-203 airplanes. The LBA advises that rivets were reported as missing from the fuselage main deck and main deck cargo door area on one affected A300 airplane. The findings occurred during a maintenance check on an airplane that had been converted from passenger use to freighter use. This condition, if not corrected, could result in structural failure of the main deck and main deck cargo door areas.

Relevant Service Information

Airbus has issued EADS Alert Service Bulletin DA-53-073, dated June 26, 2002 (for Airbus Model A300 B2 series airplanes, and A300 B4-103 and B4-203 airplanes); and EADS Alert Service Bulletin DA-53-074, dated June 27, 2002 (for Airbus Model A310-203 airplanes). Airbus has also issued All Operator Telex (AOT) M113-02-007, dated June 21, 2002. The service bulletins describe procedures for visually inspecting for missing or incorrect rivets in the area affected by the conversion. If there are missing or incorrect rivets, the service bulletins recommend contacting the LBA's delegated agent for further instructions. The AOT describes the areas on which the inspection is required, in accordance with the riveting layouts in the service bulletins. The service bulletins also request that operators report the inspection results to the delegated agent, and the AOT requests that operators provide this report to Airbus.

The LBA mandated the service information and issued German airworthiness directive 2002-200, dated June 27, 2002, to ensure the continued airworthiness of these airplanes in Germany.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the LBA has kept the FAA informed of the situation described above. We have examined the LBA's findings, evaluated all pertinent information, and determined that we need to issue an AD for products of this type design that are certificated for operation in the United States.

Therefore, we are proposing this AD, which would require accomplishing the actions specified in the service information described previously, except as discussed under “Differences Between the Proposed AD and the German Airworthiness Directive.”

Differences Between the Proposed AD and the German Airworthiness Directive

The German airworthiness directive does not include manufacturer's serial number (S/N) 184 in its list of airplane S/Ns affected by the action. This proposed AD would include S/N 184 in its applicability. S/N 184 was inadvertently excluded from the German airworthiness directive.

The German airworthiness directive lists the applicable service bulletin numbers as A300-DA53-073, and A310-DA53-074. This is an inadvertent error. The numbers are identified on the applicable service bulletins as EADS Alert Service Bulletins DA-53-073, and DA-53-074.

The German airworthiness directive directs operators to contact the LBA's delegated agent for repair instructions. This proposed AD would require you to repair those conditions using a method that we or the LBA (or its delegated agent) approve. In light of the type of repair that would be required to address the unsafe condition, and consistent with existing bilateral airworthiness agreements, we have determined that, for this proposed AD, a repair we or the LBA approve would be acceptable for compliance with this proposed AD.

Although the German airworthiness directive specifies that operators should submit an inspection report, this proposed AD would not require those actions.

Clarification of Inspection Language

The service bulletin and the German airworthiness directive request that operators “visually inspect” for missing and incorrect fasteners. This proposed AD defines this inspection as a “general visual inspection.” This inspection is defined in Note 1 of this proposed AD.

Costs of Compliance

This proposed AD would affect about 2 Airbus Model A300 B4-103 and B4-203 airplanes of U.S. registry. The proposed actions would take about 80 work hours per airplane, at an average labor rate of $65 per work hour. Based on these figures, the estimated cost of the proposed AD for U.S. operators is $10,400, or $5,200 per airplane.

Currently there are no Airbus Model A310-203 airplanes of U.S. registry. However, should one of these airplanes be imported and placed on the U.S. registry, we estimate that the proposed actions would take about 80 work hours per airplane, at an average labor rate of $65 per work hour. Based on these figures, the estimated cost of the proposed AD would be $5,200 per airplane.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus: Docket No. FAA-2005-22527; Directorate Identifier 2004-NM-04-AD.

Comments Due Date

(a) The Federal Aviation Administration must receive comments on this AD action by October 27, 2005.

Affected ADs

(b) None.

Applicability

(c) This AD applies to Airbus Model A300 B2-1A, B2-1C, B2K-3C, B2-203, A300 B4-103, and B4-203 airplanes, and Model A310-203 airplanes; certificated in any category; as identified in EADS Alert Service Bulletin DA-53-073, dated June 26, 2002, and EADS Alert Service Bulletin DA-53-074, dated June 27, 2002; as applicable.

Unsafe Condition

(d) This AD was prompted by a report of rivets missing from the structural area affected by conversion from passenger to freight configuration. We are issuing this AD to prevent structural failure of the main deck and main deck cargo door areas.

Compliance

(e) You are responsible for having the actions required by this AD performed within the compliance times specified, unless the actions have already been done.

Inspection

(f) Within 300 flight cycles after the effective date of this AD: Do a general visual inspection for missing or incorrect rivets in the entire structural area affected by conversion from passenger to freight configuration identified in Airbus All Operator Telex M113-02-007, dated June 21, 2002. Do the inspections in accordance with the Accomplishment Instructions of EADS Alert Service Bulletin DA-53-073, dated June 26, 2002; or EADS Alert Service Bulletin DA-53-074, dated June 27, 2002; as applicable.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Corrective Action

(g) If any inspection required by paragraph (f) of this AD identifies a missing or incorrect rivet: Before further flight, repair according to a method approved by either the Manager, New York Aircraft Certification Office (ACO), FAA; or the Luftfahrt-Bundesamt (LBA) (or its delegated agent).

No Reporting Required

(h) Although the service bulletins referenced in this AD specify to submit certain information to the manufacturer, this AD does not include that requirement.

Alternative Methods of Compliance (AMOCs)

(i)(1) The Manager, New York ACO, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) German airworthiness directive 2002-200, dated June 27, 2002, also addresses the subject of this AD.

Issued in Renton, Washington, on September 16, 2005.
Ali Bahrami,
Manager, Transport Airplane Directorate, Aircraft Certification Service.

[FR Doc. 05-19237 Filed 9-26-05; 8:45 am]

BILLING CODE 4910-13-P